DEPARTMENT OF LABOR

Employment and Training Administration

[NAFTA-5068]

Rosti (Minden) Inc. Coushatta Annex Coushatta, LA; Notice of Termination of Investigation

Pursuant to section 221 of the Trade Act of 1974, an investigation was initiated on July 9, 2001 in response to a worker petition which was filed by the company on June 27, 2001, on behalf of workers at Rosti (Minden) Inc., Coushatta Annex, Coushatta, Louisiana.

A company official at the subject firm has requested that the petition be withdrawn. Consequently, further investigation in this case would serve no purpose, and the investigation has been terminated.

Signed in Washington, DC, this 29th day of August, 2001.
Linda G. Poole,
Certifying Officer, Division of Trade Adjustment Assistance.

[FR Doc. 01-22686 Filed 9-10-01; 8:45 am]

BILLING CODE 4510-30-M